DEPARTMENT OF TRANSPORTATION

Federal Aviation Administration

14 CFR Part 71

[Docket No. FAA-2026-1454; Airspace Docket No. 25-ANM-159]

RIN 2120-AA66

Amendment of United States Area Navigation Routes Q-121 and Q-156

AGENCY: Federal Aviation Administration (FAA), DOT.

ACTION: Final rule.

SUMMARY: This action renames a waypoint (WP) on United States Area Navigation (RNAV) Routes Q-121 and Q-156 currently identified as “SWTHN” with the new identifier “STORZ” for pronounceability. This action does not change the structure or flight path of either RNAV route.

DATES: Effective date 0901 UTC, May 14, 2026. The Director of the Federal Register approves this incorporation by reference action under 1 CFR part 51, subject to the annual revision of FAA Order JO 7400.11 and publication of conforming amendments.

ADDRESSES: A copy of this final rule and all background material may be viewed online at www.regulations.gov using the FAA Docket number. Electronic retrieval help and guidelines are available on the website. It is available 24 hours each day, 365 days each year. An electronic copy of this document may also be downloaded from www.federalregister.gov.

FAA Order JO 7400.11K, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Ashley Toth, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System (NAS).

History

The WP “SWTHN” is frequently referenced by Air Traffic Control (ATC) Traffic Management Unit (TMU) as a fix on multiple RNAV Routes, but it is not easily pronounceable. This action renames the WP from “SWTHN” to “STORZ” on RNAV Routes Q-121 and Q-156 to enhance pronounceability. This action does not otherwise impact the routes or alter their course.

Incorporation by Reference

United States RNAV Routes are published in paragraph 2006 of FAA Order JO 7400.11, Airspace Designations and Reporting Points, which is incorporated by reference in 14 CFR 71.1 on an annual basis. This document amends the current version of that order, FAA Order JO 7400.11K, dated August 4, 2025, and effective September 15, 2025. These amendments will be published in the next update to FAA Order JO 7400.11. FAA Order JO 7400.11K, which lists Class A, B, C, D, and E airspace areas, air traffic service routes, and reporting points, is publicly available as listed in the ADDRESSES section of this document.

The Rule

This action amends 14 CFR part 71 by renaming the waypoint identified as “SWTHN” to “STORZ” on RNAV Routes Q-121 and Q-156 to ensure the WP names are pronounceable.

Good Cause for Bypassing Notice and Comment

The Administrative Procedure Act (APA) authorizes agencies to dispense with ordinary notice and comment requirements for rules when the agency, for “good cause,” finds that those procedures are unnecessary. 5 U.S.C. 553(b)(B). The renaming of the WP from “SWTHN” to “STORZ” on RNAV Routes Q-121 and Q-156 will not impose any additional restrictions or requirements on the persons affected by these regulations, as it only changes the name of an existing WP to a name that is easier to pronounce. This action also does not alter the course of the affected routes. The updating of the WP name constitutes “a routine determination, insignificant in nature and impact, and inconsequential to the industry and to the public.” Mack Trucks, Inc. v. EPA, 682 F.3d 87, 94 (D.C. Cir. 2012). The action is administrative in nature. Therefore, the FAA finds that notice and public procedure under 5 U.S.C. 553(b) is unnecessary.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action renaming the waypoint identified as “SWTHN” to “STORZ” on RNAV Routes Q-121 and Q-156 qualifies for categorical exclusion under the National Environmental Policy Act (42 U.S.C. 4321, et seq.) and in accordance with FAA Order 1050.1G, FAA National Environmental Policy Act Implementing Procedures, paragraph B-2.5(a) which categorically excludes from further environmental impact review rulemaking actions that designate or modify classes of airspace areas, airways, routes, and reporting points (see 14 CFR part 71, Designation of Class A, B, C, D, and E Airspace Areas; Air Traffic Service Routes; and Reporting Points). This airspace action is not expected to cause any potentially significant environmental impacts, and no extraordinary circumstances exist that warrant preparation of an environmental assessment.

Lists of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11K, Airspace Designations and Reporting Points, dated August 4, 2025, and effective September 15, 2025, is amended as follows:

Paragraph 2006 United States Area Navigation Routes.

* * * * *

Q-121 PARZZ, NV to STORZ, MT [Amended]
PARZZ, NV | WP | (Lat. 41°36′14.64″ N, long. 115°02′09.69″ W)
Pocatello, ID (PIH) | VOR/DME | (Lat. 42°52′13.38″ N, long. 112°39′08.05″ W)
STORZ, MT | WP | (Lat. 46°13′58.39″ N, long. 105°12′52.30″ W)

* * * * *

Paragraph 2006 United States Area Navigation Routes.

* * * * *

Q-156 STEVS, WA to ZZIPR, IA [Amended]
STEVS, WA | WP | (Lat. 47°14′54.49″ N, long. 120°32′09.93″ W)
ZAXUL, WA | FIX | (Lat. 47°10′02.58″ N, long. 120°02′41.75″ W)
FINUT, WA | WP | (Lat. 46°44′56.48″ N, long. 117°05′19.69″ W)
TUFFY, MT | FIX | (Lat. 46°42′29.02″ N, long. 114°05′01.34″ W)
UPUGE, MT | FIX | (Lat. 46°38′04.56″ N, long. 112°10′02.39″ W)
HEXOL, MT | FIX | (Lat. 46°36′49.09″ N, long. 111°09′20.70″ W)
STORZ, MT | WP | (Lat. 46°13′58.39″ N, long. 105°12′52.30″ W)
JELRO, SD | FIX | (Lat. 45°48′43.83″ N, long. 102°51′46.96″ W)
KEKPE, SD | WP | (Lat. 45°17′54.91″ N, long. 100°16′49.04″ W)
UFFDA, MN | WP | (Lat. 44°29′46.00″ N, long. 096°05′25.00″ W)
HSTIN, MN | WP | (Lat. 44°00′08.00″ N, long. 093°57′40.00″ W)
ZZIPR, IA | WP | (Lat. 43°11′09.00″ N, long. 091°39′33.00″ W)

* * * * *

Issued in Washington, DC, on February 13, 2026.
Alex W. Nelson,
Manager, Airspace Rules and Regulations Group.

[FR Doc. 2026-03246 Filed 2-18-26; 8:45 am]

BILLING CODE 4910-13-P